DEPARTMENT OF TRANSPORTATION

Federal Highway Administration

Environmental Impact Statement: Interstate 81 Corridor Improvement Study, Virginia

AGENCY: Federal Highway Administration (FHWA), DOT.

ACTION: Notice of intent.

SUMMARY: The Federal Highway Administration (FHWA) is issuing this notice to advise the public that a Tier 1 Environmental Impact Statement (EIS) will be prepared for the I-81 Corridor Improvement Study in Virginia.

FOR FURTHER INFORMATION CONTACT: John Simkins, I-81 Corridor Environmental Project Manager, Federal Highway Administration, Post Office Box 10249, Richmond, Virginia 23240-0249. Telephone: (804) 775-3342.

SUPPLEMENTARY INFORMATION: The FHWA, in cooperation with the Virginia Department of Transportation (VDOT), will prepare a Tier 1 EIS for the I-81 Corridor Improvement Study in Virginia. The Tier 1 EIS will study a range of improvement concepts that will address the purpose and need, including highway concepts, rail concepts, and combinations of highway and rail concepts. The effects of tolling with regard to the improvement concepts will also be studied. In addition, the consequences of making no improvements to the I-81 corridor will be studied. At the conclusion of the Tier 1 study, decisions will be made on the improvements concepts, the independent highway and rail components to be studied in Tier 2 National Environmental Policy Act (NEPA) document(s), and the type of NEPA document(s) for those components. Site-specific analyses and approvals will be elements of subsequent Tier 2 studies.

The FHWA and the VDOT are seeking input as part of the scoping process to assist in determining and clarifying issues relative to the study. Letters describing the study and soliciting input will be sent to the appropriate Federal, State, and local agencies, and to private organizations and other interested parties as part of the scoping effort. An agency scoping meeting as well as multiple public scoping meetings are being planned and will be announced by the VDOT when schedules have been confirmed. In addition, multiple public hearings will be held for which public notice will be given on the time and place. The Tier 1 Draft EIS will be available for public and agency review and comment prior to the public hearings.

To ensure that the full range of issues related to this study is addressed and all significant issues identified, comments and suggestions are invited from all interested parties. Comments or questions concerning this study and the Tier 1 EIS should be directed to the FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: November 6, 2003.
John Simkins,
I-81 Corridor Environmental Project Manager.

[FR Doc. 03-28541 Filed 11-13-03; 8:45 am]

BILLING CODE 4910-22-M